DEPARTMENT OF COMMERCE

[Docket No. 021007231-2231-01]

Privacy Act of 1974: System of Records

AGENCY: Department of Commerce.

ACTION: Notice of a new System of Records: Commerce/NOAA System-15: Alaska Region-North Pacific Groundfish Observer Program: Certified Domestic Observer Final Evaluations.

SUMMARY: This notice announces the Department's proposal for a new system of records under the Privacy Act. The system is entitled “Commerce/NOAA System-15: Alaska Region—North Pacific Groundfish Observer Program: Certified Domestic Observer Final Evaluations.” The National Oceanic and Atmospheric Administration, National Marine Fisheries Service (NMFS) is creating a new system of records for monitoring the performance of observers in the North Pacific groundfish fisheries. All observers hired by contractors and deployed on board vessels and at shoreside processing facilities that participate in the Alaska groundfish fisheries must satisfactorily execute their duties according to NMFS standards of observer conduct. This record system is designed to: (1) Monitor the performance of these observers; (2) ensure satisfactory compliance with NMFS standards of observer conduct; and (3) continue the collection of data for the management of the North Pacific groundfish fisheries.

DATES: The system will become effective without further notice on November 15, 2002 unless comments dictate otherwise.

Written comments must be submitted on or before November 15, 2002.

ADDRESSES: Comments should be sent to Sue Salveson, Assistant Regional Administrator for Sustainable Fisheries, Alaska Region, National Marine Fisheries Service, P.O. Box 21668, Juneau, Alaska 99802, Attn: Lori Gravel, or delivered to the Federal Building, 709 West 9th Street, Juneau, Alaska, 99802.

FOR FURTHER INFORMATION CONTACT: Bridget Mansfield, 907-586-7228.

SUPPLEMENTARY INFORMATION: Pursuant to the implementation of the North Pacific Groundfish Observer Program (50 CFR 679.50), contractors hiring and deploying observers on board vessels and at shoreside processing facilities that participate in the Alaska groundfish fisheries are required to monitor observers' performance to ensure satisfactory execution of duties by observers and observer conformance with NMFS standards of observer conduct. This monitoring is best accomplished through access to the observer performance evaluations conducted by NMFS for each completed deployment by each observer. A new system of records is being created by NMFS, Alaska Region, to maintain this monitoring. This record system will be listed under Commerce/NOAA System 15-Alaska Region—North Pacific Groundfish Observer Program: Certified Domestic Observer Final Evaluations.

NMFS finds no probable or potential adverse effects of the proposal on the privacy of individuals. To minimize the risk of unauthorized access to the system of records, electronic data will be stored securely with access limited to those NMFS employees whose official duties require access. Paper copies of records are made to fax information to the contractors included in this system of records. The paper copies are maintained in personnel folders in locked file cabinets in rooms accessible only to authorized personnel.

COMMERCE/NOAA-15

System Name:

Alaska Region-North Pacific Groundfish Observer Program: Certified Domestic Observer Final Evaluations.

System Location:

The National Marine Fisheries Service, Alaska Fisheries Science Center, North Pacific Groundfish Observer Program, 7600 Sand Point Way NE, Building 4, Seattle, Washington 98115-0070.

Categories of Individuals Covered by the System:

NMFS-certified groundfish observers and NMFS-certified contractors (observer provider companies).

Categories of Records in the System:

Certified Domestic Observer Final Evaluations are completed by North Pacific Groundfish Observer Program staff for each NMFS-certified observer upon the completion of each deployment. A deployment is a period of time not to exceed 90 days when an observer is assigned to work aboard a fishing vessel or in a shoreside processor. The Certified Domestic Observer Final Evaluations include the following information: Observer name; debriefer name; cruise number; future training recommendation; mid-cruise briefing requirement; deployment history, including vessel or plant names, and dates deployed at each; deployment scores; and narrative evaluations.

Authority for Maintenance of the System:

Magnuson-Stevens Fishery Conservation and Management Act, 16 U.S.C. 1853.

Routine Uses of Records Maintained in the System, Including Categories of Users and the Purposes of Such Uses:

1. In the event that a system of records maintained by the Department to carry out its functions indicates a violation or potential violation of law or contract, whether civil, criminal or regulatory in nature and whether arising by general statute or particular program statute or contract, or rule, regulation or order issued pursuant thereto, or the necessity to protect an interest of the Department, the relevant records in the system of records may be referred to the appropriate agency, whether Federal, State, local or foreign, charged with the responsibility of investigation or prosecuting such violation or charged with enforcing or implementing the statute or contract, or rule, regulation or order issued pursuant thereto, or protecting the interest of the Department.

2. A record from this system of records may be disclosed to a Federal, state, or local agency maintaining civil, criminal, or other relevant enforcement information or other pertinent information, such as current licenses, if necessary to obtain information relevant to a Department decision concerning the assignment, hiring or retention of an individual, the issuance of a security clearance, the letting of a contract, or the issuance of a license, grant or other benefit.

3. A record from this system of records may be disclosed to a Federal, state, local, or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

4. A record from this system of records may be disclosed in the course of presenting evidence to a court, magistrate or administrative tribunal, including disclosures to opposing counsel in the course of settlement negotiations.

5. A record in this system of records may be disclosed to a Member of Congress submitting a request involving an individual when the individual has requested assistance from the Member with respect to the subject matter of the record.

6. A record in this system of records may be disclosed to the Office of Management and Budget in connection with the review of private relief legislation as set forth in OMB Circular No. A-19 at any stage of the legislative coordination and clearance process as set forth in that Circular.

7. A record in this system of records may be disclosed to the Department of Justice in connection with determining whether disclosure thereof is required by the Freedom of Information Act (5 U.S.C. 552).

8. A record in this system of records may be disclosed to a contractor of the Department having need for the information in the performance of the contract, but not operating a system of records within the meaning of 5 U.S.C. 552a(m).

9. A record in this system may be transferred to the Office of Personnel Management for personnel research purposes, as a data source for management information, for the production of summary descriptive statistics and analytical studies in support of the function for which the records are collected and maintained, or related to manpower studies.

10. A record in this system may be disclosed to the Administrator, General Services, or his designee, during an inspection of records conducted by GSA as part of that agency's responsibility to recommend improvements in records management practices and programs under authority of 44 U.S.C. 2904 and 2906. Such disclosure shall be made in accordance with the GSA regulations governing inspection of records for this purpose and any other relevant (i.e. GSA or Commerce) directive. Such disclosure shall not be used to make determinations about individuals.

11. NMFS will make available to each NMFS-certified contractor a NMFS-generated final evaluation, containing the information described above, for each observer deployment made under contract with that contractor.

Policies and Practices for Storing, Retrieving, Accessing, Retaining, and Disposing of Records in the System:

Storage:

Electronic storage on computers or disk; paper records in file folders individually named and kept in secure file cabinets.

Retrievability:

Observers are assigned observer numbers and “cruise” (or deployment) numbers. Documents can be electronically retrieved by observer name or observer number combined with cruise number and year of deployment. Contractors included in this system of records do not have electronic access to this information. Paper printouts of electronic records will be made by NMFS staff to transmit via fax to the contractors included in this system of records.

Safeguards:

Grounds and buildings employ security systems. Where electronic information is retrievable by terminal, all safeguards appropriate to secure the telecommunications system (hardware and software) are utilized. Paper records are maintained in secured file cabinets in areas that are accessible only to authorized personnel. NMFS-certified contractors, to whom access to this information is granted in accordance with this systems of records routine uses provision, are instructed on the confidential nature of this information.

Retention and disposal:

Retention and disposal is in accordance with the National Archives Records Administration and the Department of Commerce record keeping procedures.

System Manager(s) and Address:

North Pacific Groundfish Observer Program Task Leader, Alaska Fisheries Science Center, North Pacific Groundfish Observer Program, 7600 Sand Point Way NE, BIN C15700, Building 4, Seattle, Washington, 98115-0070.

Notification Procedure:

Privacy Act information contained in this system of records may be requested from the system manager at the address above and must be approved by the Office of General Counsel, National Oceanic and Atmospheric Administration, Alaska Region. A requestor, including a NMFS-certified observer seeking information on himself or herself, should provide name, address, date of application, and record sought, pursuant to the inquiry provisions of the Department of Commerce's rules which appear in 15 CFR part 4b—Privacy Act.

Record Access Procedures:

Upon completion of each deployment debriefing, NMFS will fax a copy of the observer's final deployment evaluation to the observer's contracting company. The observer provider company must keep the observer evaluation record confidential and cannot release it without prior written release from the observer. Each observer is provided with a copy of his or her final evaluation upon completion of that debriefing. A request from a NMFS-certified observer for past evaluations should be addressed to the same address as stated in the notification section above.

Contesting Record Procedures:

The Department's rules for access, for contesting contents, and for appealing initial determinations by the individual concerned appear in 15 CFR part 4b—Privacy Act.

Record Source Categories:

NMFS-certified observers and North Pacific Groundfish Observer Program staff.

Dated: October 9, 2002.
Brenda S. Dolan,
Department of Commerce, Freedom of Information/Privacy Act Officer.

[FR Doc. 02-26240 Filed 10-16-02; 8:45 am]

BILLING CODE 3510-22-P